DEPARTMENT OF HOUSING AND URBAN DEVELOPMENT

[Docket No. FR-5823-N-01]

Federal Housing Administration (FHA): Points of Contact for Lienholders To Ensure Payment of Taxes Liens and Other Types of Liens on FHA Acquired Single Family Properties

AGENCY: Office of the Assistant Secretary for Housing-FHA Commissioner, HUD.

ACTION: Notice of FHA points of contact for payment.

SUMMARY: This Notice proactively provides lienholders of single family properties acquired by FHA in payment of mortgage insurance claims with FHA points of contact to ensure payment of tax liens and other types of liens on these single family properties. FHA uses contractors to manage these properties and make property charge payments. Inadvertently at times, these payments remain unpaid. This Notice provides direction for taxing authorities and similarly situated entities such as homeowners associations owed money for finding the proper point of contact at HUD for payment. As litigation to enforce liens should be a last resort, HUD is providing these specific points of contact that lienholders can use to obtain payment and avoid litigation. Through a related notice published elsewhere in today's Federal Register, HUD provides separate points of contact for payment of taxes and other property charges which have not risen to lien status. Elsewhere in today's Federal Register, HUD is publishing an interpretive rule regarding the procedures to be followed in bringing an action to foreclose HUD's ownership interest in properties with such liens that are unpaid.

DATES: Effective date: October 15, 2015.

FOR FURTHER INFORMATION CONTACT: Ivery Himes, Director, Office of Single Family Asset Management, Office of Housing, Department of Housing and Urban Development, 451 7th Street SW., Room 9172, Washington, DC 20410-8000, telephone number 202-708-1672. (this is not a toll-free number). Persons with hearing or speech impairments may access this number through TTY by calling the toll-free Federal Relay Service at 800-877-8339.

SUPPLEMENTARY INFORMATION:

I. Background

This Notice provides lienholders on single family properties acquired by FHA in payment of mortgage insurance claims with a Point of Contact in each of the four Homeownership Centers (HOCs). Each one of the four HOCs contains in its organizational structure the FHA operations staff who oversee much of the day-to-day work regarding FHA programs. Each HOC oversees on average 13 states/jurisdictions for FHA activities and has a Real Estate Owned (REO) division that handles the day-to-day oversight of FHA's acquired properties so they are (1) protected from vandalism and deterioration and (2) aggressively marketed for as high a price as possible. This Notice provides that the HUD offices that manage these properties are the proper recipients for tax bills and billings of a similar nature. In most cases, having a known point of contact to send billings should obviate the need to have to bring suit against HUD to levy on a property.

II. Points of Contact and Procedure

HUD's FHA single family REO properties are managed and marketed out of four HOCs that are located in Philadelphia, Pennsylvania; Atlanta, Georgia; Denver, Colorado; and Santa Ana, California (with counsel for Santa Ana being located in San Francisco).

Tax bills, condominium and homeowner association fee billings, and billings for special assessments on properties owned by FHA that have arisen to lien status are to be sent to the attention of the director of the FHA REO Divisions in the HOC which has jurisdiction over the property that is subject to the taxes and/or fees. These bills should be sent in a timely manner to the appropriate HOC so that the HOC can remit payment promptly to avoid need for litigation to enforce any liens associated with such billings.

Philadelphia HOC—has jurisdiction over properties located in Maine, Vermont, New Hampshire, Massachusetts, Rhode Island, Connecticut, New York, New Jersey, Delaware, Maryland, District of Columbia, Virginia, West Virginia, Pennsylvania, Ohio and Michigan.

The Philadelphia REO Director is the point of contact and can be reached by calling 1-800-CALLFHA (1-800-225-5342) or by writing to: Attention: Single Family HOC-REO Division, U.S. Department of Housing and Urban Development, The Wanamaker Building, 100 Penn Square East, Philadelphia, PA 19107-3380.

Atlanta HOC—has jurisdiction over properties located in Illinois, Indiana, Kentucky, Tennessee, North Carolina, South Carolina, Georgia, Alabama, Mississippi, Virgin Islands, Puerto Rico, and Florida.

The Atlanta REO Director is the point of contact and can be reached by calling 1-800-CALLFHA (1-800-225-5342) or by writing to: Attention: Single Family HOC-REO Division, U.S. Department of Housing and Urban Development, Five Points Plaza, 40 Marietta Street, Atlanta, GA 30303-2806.

Denver HOC—has jurisdiction over properties located in the Montana, North Dakota, South Dakota, Minnesota, Wisconsin, Wyoming, Iowa, Nebraska, Colorado, Utah, Kansas, Missouri, New Mexico, Oklahoma, Texas, Arkansas and Louisiana.

The Denver REO Director is the point of contact and can be reached by calling 1-800-CALLFHA (1-800-225-5342) or by writing to: Attention: Single Family HOC-REO Division, U.S. Department of Housing and Urban Development, UMB Plaza, 1670 Broadway, Denver, Colorado 80202-4801.

Santa Ana HOC—has jurisdiction over properties located in Alaska, Hawaii, Washington, Oregon, Idaho, Nevada, California, Guam and Arizona.

The Santa Ana REO Director is the point of contact and can be reached by calling 1-800-CALLFHA (1-800-225-5342) or by writing to: Attention: Single Family HOC-REO Division, U.S. Department of Housing and Urban Development, Santa Ana Federal Building, 34 Civic Center Plaza, Room 7015, Santa Ana, CA 92701-4003.

If the addresses of the HOCs and POCs change over time, HUD will inform the public of such changes as promptly as possible by Federal Register Notice or other means of mass communication.

Dated: October 7, 2015.
Edward L. Golding,
Principal Deputy Assistant, Secretary for Housing.

[FR Doc. 2015-26167 Filed 10-14-15; 8:45 am]

BILLING CODE 4210-67-P